DEPARTMENT OF COMMERCE

National Institute of Standards and Technology

Proposed Information Collection; Comment Request; Identification of Human Cell Lines Project

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 23, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Margaret Kline at the National Institute of Standards and Technology, 100 Bureau Drive, Stop 8311, Gaithersburg, MD 20899-8311; or at Margaret.Kline@nist.gov.

SUPPLEMENTARY INFORMATION:

I. Abstract

The National Institute of Standards and Technology (NIST) Biochemical Science Division announces its intent to identify by short tandem repeat (STR) profiling up to 1500 human cell line samples as part of the Identification of Human Cell Lines Project. All data and corresponding information will be posted in a publically held database at the National Center for Biotechnology Information (NCBI) and will be used to differentiate among cell lines, as described in Designation: ASN-0002 Authentication of Human Cell Lines: Standardization of STR Profiling by the ATCC Standards Development Organization Workgroup.

Human cell line samples are cells taken from a human being that can be grown in the laboratory and are considered immortal (alive and reproduce forever in a petri plate, given appropriate conditions). They can be used for scientific experiments, as examples of the tissue they're from. Once cells from a tissue have been grown in the lab they are called a cell line. There is a tremendous need for investigators to know with confidence that the cells they are using are of the desired species of origin.

This interactive database will be used by the research and development community to validate cell lines of interest. It will offer DNA profiles of commonly used standard cell lines, as donated by interested parties. The database will allow disparate laboratories to compare their lines, thereby facilitating the validation of experimental data. Thus the database will address the need for investigators to know much more about the samples used in their research. The database will fulfill an overarching need of researchers to characterize their substrates with an accepted standard.

II. Method of Collection

The data required to differentiate among the cell lines can be submitted in hard copies or electronic submissions to NIST (contact information above).

III. Data

OMB Control Number: None.

Form Number: None.

Type of Review: Regular submission (new information collection).

Affected Public: Business or other for-profit organizations; Academia; Not-for-profit institutions.

Estimated Number of Respondents: 100 (15 cell line limit).

Estimated Time per Response: 2 hours and 30 minutes (10 minutes/cell line × 15 cell lines).

Estimated Total Annual Burden Hours: 250.

Estimated Total Annual Cost to Public: $2,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 18, 2011.
Gwellnar Banks,
Management Analyst, Office of the Chief Information Officer.

[FR Doc. 2011-6910 Filed 3-23-11; 8:45 am]

BILLING CODE 3510-13-P